DEPARTMENT OF HOUSING AND URBAN DEVELOPMENT

[Docket No. FR-5415-C-25]

Notice of Availability: HUD's Fiscal Year (FY) NOFA for the Choice Neighborhoods Initiative—Round 1 NOFA Grant Program; Technical Correction and Extension of Deadline Date

AGENCY: Office of the Chief of the Human Capital Officer, HUD.

ACTION: Notice extension of deadline.

SUMMARY: On August 26, 2010, HUD posted on http://www.Grants.gov its Notice of Funding Availability (NOFA) for HUD's FY2010 Choice Neighborhoods Initiative—Round 1. Today's Federal Register notice announces that HUD has posted on http://www.Grants.gov a technical correction that extends the October 26, 2010 deadline date for HUD's FY2010 Choice Neighborhoods Initiative—Round 1 NOFA for at least 30 days. HUD is extending the deadline for application to makes changes to the Mapping Tool used to determine neighborhood eligibility. HUD will post on http://www.Grants.gov a subsequent notice with a new deadline date once the Mapping Tool has been revamped.

FOR FURTHER INFORMATION CONTACT: For questions concerning Choice Neighborhoods, please contact Ms. Caroline Clayton, Office of Public Housing Investments, Office of Public and Indian Housing, Department of Housing and Urban Development, 451 Seventh Street, SW., Washington DC, 20410-5000; telephone (202) 402-5461 (this is not a toll-free number); e-mail Caroline.C.Clayton@hud.gov. Persons with hearing or speech impairments may access these numbers via TTY by calling the Federal Information Relay Service at (800) 877-8339.

Dated: October 27, 2010.
Barbara S. Dorf,
Director, Office of Departmental Grants Management and Oversight, Office of the Chief of the Human Capital Officer.

[FR Doc. 2010-27545 Filed 11-1-10; 8:45 am]

BILLING CODE 4210-67-P